SOCIAL SECURITY ADMINISTRATION

[Docket No. SSA-2014-0018.]

Privacy Act of 1974, as Amended; Computer Matching Program (SSA/the States)—Match 6000 and 6003

AGENCY: Social Security Administration (SSA).

ACTION: Notice of a renewal of an existing computer matching program that will expire on December 31, 2014.

SUMMARY: In accordance with the provisions of the Privacy Act, as amended, this notice announces a renewal of an existing computer matching program that we are currently conducting with the States.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869 or writing to the Executive Director, Office of Privacy and Disclosure, Office of the General Counsel, Social Security Administration, 617 Altmeyer Building, 6401 Security Boulevard, Baltimore, MD 21235-6401. All comments received will be available for public inspection at this address.

FOR FURTHER INFORMATION CONTACT: The Executive Director, Office of Privacy and Disclosure, Office of the General Counsel, as shown above.

SUPPLEMENTARY INFORMATION:

A. General

The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Kirsten J. Moncada,
Executive Director, Office of Privacy and Disclosure, Office of the General Counsel.

Notice of Computer Matching Program, SSA With the State of [STATE NAME] (State)

A. Participating Agencies

SSA and the States

B. Purpose of the Matching Program

The purpose of this matching program is to set forth the terms and conditions governing disclosures of records, information, or data (collectively referred to herein as “data”) made by us to various State agencies and departments (State Agencies) that administer federally funded benefit programs, including those under various provisions of the Social Security Act (Act), such as section 1137 (42 U.S.C. 1320b-7), as well as the state-funded state supplementary payment programs under Title XVI of the Act. The terms and conditions of this Agreement ensure that we make such disclosures of data, and the States use such disclosed data, in accordance with the requirements of the Privacy Act of 1974, as amended by the Computer Matching and Privacy Protection Act of 1988 (CMPPA), 5 U.S.C. 552a.

Under section 1137 of the Act, States are required to use an income and eligibility verification system to administer specified federally funded benefit programs, including the state-funded state supplementary payment programs under Title XVI of the Act. To assist the States in determining entitlement to and eligibility for benefits under those programs, as well as other federally funded benefit programs, we disclose certain data about applicants (and in limited circumstances, members of an applicant's household), for state benefits from our Privacy Act Systems of Records (SOR) and verify the Social Security numbers (SSN) of the applicants.

Individual agreements with the States describe the information we will disclose and the conditions under which we agree to disclose the information.

C. Authority for Conducting the Matching Program

The legal authority to disclose data and the States' authority to collect, maintain, and use data protected under our SORs for specified purposes is:

• Sections 1137, 453, and 1106(b) of the Act (42 U.S.C. 1320b-7, 653, and 1306(b)) (income and eligibility verification data);

• 26 U.S.C. 6103(l)(7) and (8) (tax return data);

• Section 202(x)(3)(B)(iv) of the Act (42 U.S.C. 402(x)(3)(B)(iv)) (prisoner data);

• Section 1611(e)(1)(I)(iii) of the Act (42 U.S.C. 1382(e)(1)(I)(iii) (Supplemental Security Income (SSI));

• Section 205(r)(3) of the Act (42 U.S.C. 405(r)(3)) and the Intelligence Reform and Terrorism Prevention Act of 2004, Pub. L. 108-458, 7213(a)(2) (death data);

• Sections 402, 412, 421, and 435 of Pub. L. 104-193 (8 U.S.C. 1612, 1622, 1631, and 1645) (quarters of coverage data);

• Children's Health Insurance Program Reauthorization Act of 2009 (CHIPRA), Public Law 111-3 (citizenship data); and

• Routine use exception to the Privacy Act, 5 U.S.C. 552a(b)(3) (data necessary to administer other programs compatible with SSA programs).

This Agreement further carries out section 1106(a) of the Act (42 U.S.C. 1306), the regulations promulgated pursuant to that section (20 CFR part 401), the Privacy Act of 1974 (5 U.S.C. 552a), as amended by the CMPPA, related Office of Management and Budget (OMB) guidelines, the Federal Information Security Management Act of 2002 (44 U.S.C. 3541, et seq.), and related National Institute of Standards and Technology guidelines, which provide the requirements that States must follow with regard to use, treatment, and safeguarding of data.

D. Categories of Records and Persons Covered by the Matching Program

SSA SORs used for purposes of the subject data exchanges include:

• 60—0058—Master Files of SSN Holders and SSN Applications;

• 60—0059—Earnings Recording and Self-Employment Income System;

• 60—0090—Master Beneficiary Record;

• 60—0103—Supplemental Security Income Record (SSR) and Special Veterans Benefits (SVB);

• 60—0269—Prisoner Update Processing System (PUPS); and

• 60—0321—Medicare Part D and Part D Subsidy File.

States will ensure that the tax return data contained in SOR 60-0059 (Earnings Recording and Self-Employment Income System) will only be used in accordance with 26 U.S.C. 6103.

E. Inclusive Dates of the Matching Program

The effective date of this matching program is January 1, 2015; provided that the following notice periods have lapsed: 30 days after publication of this notice in the Federal Register and 40 days after notice of the matching program is sent to Congress and OMB. The matching program will continue for 18 months from the effective date and, if both agencies meet certain conditions, it may extend for an additional 12 months thereafter.

[FR Doc. 2014-16504 Filed 7-14-14; 8:45 am]

BILLING CODE 4191-02-P